DEPARTMENT OF THE INTERIOR

Fish and Wildlife Service

[FWS-HQ-MB-2019-N124; FF09M21200-190-FXMB1231099BPP0; OMB Control Number 1018-0167]

Agency Information Collection Activities; Eagle Take Permits and Fees

AGENCY: Fish and Wildlife Service, Interior.

ACTION: Notice of information collection; request for comment.

SUMMARY: In accordance with the Paperwork Reduction Act of 1995, we, the U.S. Fish and Wildlife Service (Service, we), are proposing to reinstate a previously approved information collection with revisions.

DATES: Interested persons are invited to submit comments on or before January 6, 2020.

ADDRESSES: Send your comments on the information collection request by mail to the Service Information Collection Clearance Officer, U.S. Fish and Wildlife Service, MS: JAO/1N PRB/PERMA, 5275 Leesburg Pike, Falls Church, VA 22041-3803 (mail); or by email to Info_Coll@fws.gov. Please reference OMB Control Number 1018-0167 in the subject line of your comments.

FOR FURTHER INFORMATION CONTACT: To request additional information about this ICR, contact Madonna L. Baucum, Service Information Collection Clearance Officer, by email at Info_Coll@fws.gov, or by telephone at (703) 358-2503.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed information collection request (ICR) that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Information collection requirements associated with the Federal fish and wildlife permit applications and reports for both migratory birds and eagles are currently approved under a single OMB control number, 1018-0022, “Federal Fish and Wildlife Permit Applications and Reports—Migratory Birds and Eagles; 50 CFR 10, 13, 21, 22.” With this submission to OMB, we are proposing to reinstate OMB Control Number 1018-0167, “Eagle Take Permits and Fees, 50 CFR 22,” in order transfer the eagle requirements back in to a separate information collection. This transfer will facilitate easier management of the information collection requirements associated with eagles. We are not proposing any changes to the currently approved eagle requirements. This request will simply transfer the information collection requirements associated with eagles back in to their original collection under OMB Control Number 1018-0167.

The Bald and Golden Eagle Protection Act (Eagle Act; 16 U.S.C. 668-668d) prohibits take of bald eagles and golden eagles except pursuant to Federal regulations. The Eagle Act regulations at title 50, part 22 of the Code of Federal Regulations (CFR) define the “take” of an eagle to include the following broad range of actions: To “pursue, shoot, shoot at, poison, wound, kill, capture, trap, collect, destroy, molest, or disturb.” The Eagle Act allows the Secretary of the Interior to authorize certain otherwise prohibited activities through regulations.

All Service permit applications associated with eagles are in the 3-200 and 3-202 series of forms, each tailored to a specific activity based on the requirements for specific types of permits. For this reinstatement, we combined Forms 3-200-10c and 3-200-10d into one form (3-200-10c) to reduce the number of application forms and help streamline the application process. Since both forms dealt with possession for education purposes, and asked virtually the same questions of the applicant, there was no need to have separate forms. We collect standard identifier information for all permits. The information that we collect on applications and reports is the minimum necessary for us to determine if the applicant meets/continues to meet issuance requirements for the particular activity.

In addition to reinstating this information collection, the Service will request OMB approval to automate certain eagle permit forms. The Service's new “ePermits” initiative is an automated permit application system that will allow the agency to move towards a streamlined permitting process to reduce public burden. Public burden reduction is a priority for the Service; the Assistant Secretary for Fish, Wildlife, and Parks; and senior leadership at the Department of the Interior. The intent of the ePermits initiative is to fully automate the permitting process to improve the customer experience and to reduce time burden on respondents. This new system will enhance the user experience by allowing users to enter data from any device that has internet access, including personal computers, tablets, and smartphones. It will also link the permit applicant to the Pay.gov system for payment of the associated permit application fee.

We anticipate including the following Service forms in the ePermits initiative: FWS Forms 3-200-14, 3-200-15a, 3-200-15b, 3-200-16, 3-200-18, 3-200-69, 3-200-72, 3-200-77, 3-200-78, 3-200-82, and 3-202-11 through 3-202-16.

Title of Collection: Eagle Take Permits and Fees, 50 CFR 22.

OMB Control Number: 1018-0167.

Form Number: FWS Forms 3-200-14, 3-200-15a, 3-200-15b, 3-200-16, 3-200-18, 3-200-71, 3-200-72, 3-200-77, 3-200-78, 3-200-82, 3-202-11 through 3-202-16, and 3-2480.

Type of Review: Reinstatement of a previously approved information collection with revisions.

Respondents/Affected Public: Individuals and businesses. We expect the majority of applicants seeking long-term permits will be in the energy production and electrical distribution business.

Total Estimated Number of Annual Respondents: 11,273.

Total Estimated Number of Annual Responses: 11,520.

Estimated Completion Time per Response: Varies from 15 minutes to 650 hours, depending on activity.

Total Estimated Number of Annual Burden Hours: 258,996.

Respondent's Obligation: Required to obtain or retain a benefit.

Frequency of Collection: On occasion for applications; annually or on occasion for reports.

Total Estimated Annual Nonhour Burden Cost: $1,725,500 (primarily associated with application processing fees).

An agency may not conduct or sponsor and a person is not required to respond to a collection of information unless it displays a currently valid OMB control number.

The authority for this action is the Paperwork Reduction Act of 1995 (44 U.S.C. 3501 et seq.).

Dated: November 4, 2019.
Madonna L. Baucum,
Information Collection Clearance Officer, U.S. Fish and Wildlife Service.

[FR Doc. 2019-24300 Filed 11-6-19; 8:45 am]

BILLING CODE 4333-15-P